DEPARTMENT OF AGRICULTURE

Rural Utilities Service

Notice of Public Meeting on Rural Broadband Access

AGENCY: Rural Utilities Service, USDA.

ACTION: Notice of public meeting.

SUMMARY: This is to notify telecommunications systems financed by the Rural Utilities Service (RUS), lenders, and other interested persons that RUS is holding a public meeting in order for interested persons to express their views on the challenges of deploying broadband services to rural America, the successes, the role of competition in providing access to rural areas.

DATES: The public meeting will be held on June 27, 2002, starting at 9 a.m. eastern time, with registration at 8 a.m. The public meeting will end at 4:30 p.m. unless concluded earlier.

ADDRESSES: The public meeting will be held in room 0348, South Building, U.S. Department of Agriculture, 1400 Independence Avenue, SW., Washington, DC. Persons interested in making a presentation at the meeting should send a written request to Roberta D. Purcell, Assistant Administrator, Telecommunications Program, Rural Utilities Service, room 4056-S, Stop 1590, 1400 Independence Avenue, SW., Washington, DC 20250-1590.

FOR FURTHER INFORAMTION CONTACT: Roberta D. Purcell, Assistant Administrator, Telecommunications Program, Rural Utilities Service, room 4056-S, Stop 1590, 1400 Independence Avenue, SW., Washington, DC 20250-1500, Telephone: (202) 720-9554.

SUPPLEMENTARY INFORMATION: The meeting will be conducted by representatives of the Department of Agriculture. The proceedings of the meeting will be transcribed and considered in implementing provisions of the Farm Security and Rural Investment Act of 2002 (Pub. L. 107-171) concerning the Rural Broadband Access loan and loan guarantee program. The purpose of the meeting is to provide background information for consideration in the implementation and administration of its telecommunications broadband loan program. The Agency will retain a summary of the meeting.

RUS is particularly interest in receiving presentations on the following specific issues as they relate to rural broadband access:

1. The demand for rural broadband access—What is driving the demand? What is limiting demand? Who are the players and what are their roles—federal, state, and local governments, service providers, equipment manufacturers, private lenders, educational and health care organizations, public safety agencies, etc. What services are in demand, which are not?

2. The deployment of broadband access—Where is broadband access available today in rural America—schools, hospitals, law enforcement, businesses, residences? Is there an abundance of dark fiber and if, so, how can that best be used in serving rural America? What technologies are available—which are succeeding, what are their limitations, and at what cost?

3. The rural landscape—Who serves rural America? What inhibits rural investment?

4. Universal service—Who will protect/finance the carriers of last resort? Will broadband service be a supported service?

5. Competition—What role does competition play? Can a rural area support competing broadband providers? What impact will a competitor have on local exchange service?

6. The benefits—What are the success stories—to local residents and national interest?

To schedule oral testimony for the public meeting, notify Ms. Purcell, in writing, at the above address. Requests may be sent by facsimile transfer to (202) 702-0810 or e-mail to: bpucell@rus.usda.gov. Persons who wish to make oral presentations must restrict presentations to 10 minutes and are also encouraged to have written copies of their complete comments, including exhibits, for inclusion in the official record. Written copies should also be sent to Ms. Purcell in advance of the meeting. Persons who register their attendance at the public meeting, but who have not been scheduled in advance to present oral testimony, will be given an opportunity to do so if time permits. Otherwise, such persons will be allowed the opportunity to submit their views in writing by June 27, 2002, for inclusion in the official record.

Subject to the limitations described in the preceding paragraph, any interested person will be given the opportunity to appear and be heard with respect to matters relevant and material to the subject. However, presiding officials may limit the number of times that any one person may be heard and limit or exclude material that is irrelevant, immaterial, or unduly repetitious. Such action is intended to focus the discussion on the relevant issues, to ensure that all interested persons have an opportunity to participate to the extent time permits, and to prevent undue prolongation of the meeting. Presiding officials may ask questions at the meeting of persons making presentations. The questions and responses will become a part of the official record.

Copies of the transcript of the meeting will not be available for distribution from the Department. However, the transcript of the meeting will be available for public inspection in room 4040 at RUS, 1400 Independence Avenue, SW., Washington, DC, during regular business hours (7 CFR 1.27(b)). Anyone wishing to purchase a copy of the transcript should make arrangements with the court reporter at the meeting.

Dated: June 6, 2002.
Hilda Gay Legg,
Administrator, Rural Utilities Service.

[FR Doc. 02-14682 Filed 6-11-02; 8:45 am]

BILLING CODE 3410-15-P